NUCLEAR REGULATORY COMMISSION

[NRC-2017-0060]

Information Collection: NRC Form 361, Reactor Plant Event Notification Worksheet; NRC Form 361A, Fuel Cycle and Materials Event Notification Worksheet; NRC Form 361N, Non-Power Reactor Event Notification Worksheet

AGENCY: Nuclear Regulatory Commission.

ACTION: Notice of submission to the Office of Management and Budget; request for comment.

SUMMARY: The U.S. Nuclear Regulatory Commission (NRC) has recently submitted a request for proposed collection of information to the Office of Management and Budget (OMB) for review. The information collection is entitled, NRC Form 361, Reactor Plant Event Notification Worksheet; NRC Form 361A, Fuel Cycle and Materials Event Notification Worksheet; NRC Form 361N, Non-Power Reactor Event Notification Worksheet.

DATES: Submit comments by May 6, 2019.

ADDRESSES: Submit comments directly to the OMB reviewer at: OMB Office of Information and Regulatory Affairs (3150-XXXX), Attn: Desk Officer for the Nuclear Regulatory Commission, 725 17th Street NW, Washington, DC 20503; email: oira_submission@omb.eop.gov.

FOR FURTHER INFORMATION CONTACT: David Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2017-0060 when contacting the NRC about the availability of information for this action. You may obtain publicly-available information related to this action by any of the following methods:

• Federal Rulemaking website: Go to http://www.regulations.gov and search for Docket ID NRC-2017-0060. A copy of the collection of information and related instructions may be obtained without charge by accessing Docket ID NRC-2017-0060 on this website.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession Nos: ML19057A161, ML19057A167, and ML19057A169. The supporting statement is available in ADAMS under Accession No. ML19057A101.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a proposed collection of information to OMB for review entitled, “NRC Form 361, Reactor Plant Event Notification Worksheet; NRC Form 361A, Fuel Cycle and Materials Event Notification Worksheet; NRC Form 361N, Non-Power Reactor Event Notification Worksheet.” The NRC hereby informs potential respondents that an agency may not conduct or sponsor, and that a person is not required to respond to, a collection of information unless it displays a currently valid OMB control number.

The NRC published a Federal Register notice with a 60-day comment period on this information collection on September 25, 2018 (83 FR 48472).

1. The title of the information collection: NRC Form 361, Reactor Plant Event Notification Worksheet, NRC Form 361A, Fuel Cycle and Materials Event Notification Worksheet; NRC Form 361N, Non-Power Reactor Event Notification Worksheet.”

2. OMB approval number: 3150-XXXX.

3. Type of submission: New.

4. The form number if applicable: NRC Form 361, NRC Form 361A, NRC Form 361N.

5. How often the collection is required or requested: On occasion, as defined, NRC licensee events are reportable when they occur.

6. Who will be required or asked to respond: Holders of NRC licenses for commercial nuclear power plants, fuel cycle facilities, NRC material licensees, and non-power reactors.

7. The estimated number of annual responses: 537.

8. The estimated number of annual respondents: 537.

9. An estimate of the total number of hours needed annually to comply with the information collection requirement or request: 268.5 hours.

10. Abstract: The NRC requires its licensees to report by telephone certain reactor events and emergencies that have potential impact to public health and safety. In order to efficiently process the information received through such reports for reactors, the NRC created Forms 361 to provide a templated worksheet for recording the information. NRC licensees are not required to fill out or submit the worksheet, but the form provides the usual order of questions and discussion to enable a licensee to prepare answers for a more clear and complete telephonic notification. Without the templated format of the NRC Forms 361, the information exchange between licensees and NRC Headquarters Operations Officers via telephone could result in delays as well as unnecessary transposition errors.

Dated at Rockville, Maryland, this 1st day of April 2019.
For the Nuclear Regulatory Commission.
David C. Cullison,
NRC Clearance Officer, Office of the Chief Information Officer.

[FR Doc. 2019-06550 Filed 4-3-19; 8:45 am]

BILLING CODE 7590-01-P